DEPARTMENT OF THE INTERIOR

Bureau of Land Management

[ES-930-1310-FI; ARES 54051, ARES 54053, ARES 54055, ARES 54058, ARES 54063]

Notice of Proposed Reinstatement of Terminated Oil and Gas Leases, Arkansas

AGENCY: Bureau of Land Management, Interior.

ACTION: Notice.

SUMMARY: Under the provisions of the Federal Oil and Gas Royalty Management Act of 1982, the Bureau of Land Management-Eastern States (BLM) received a petition for reinstatement of oil and gas leases ARES 54051, ARES 54053, ARES 54055, ARES 54058, and ARES 54063 from Pergamos, L.P. for lands in Pope and Johnson counties, Arkansas. The petition was filed on time and was accompanied by all the rentals due since the date the lease terminated under the law.

FOR FURTHER INFORMATION CONTACT: Kemba Anderson-Artis, Acting Supervisory Land Law Examiner, BLM-ES, 7450 Boston Boulevard, Springfield, Virginia, at (703) 440-1659.

SUPPLEMENTARY INFORMATION: No valid lease has been issued affecting these lands. The lessee has agreed to the new lease terms for rental and royalties at rates of $10 per acre or fraction thereof, per year, and 16⅔ percent, respectively. The lessee has paid the required $500 administrative fee and $163 to reimburse the BLM for the cost of publishing this Notice in the Federal Register. The lessee has met all the requirements for reinstatement as set out in Sections 31(d) and (e) of the Mineral Leasing Act of 1920 (30 U.S.C. 188), and the BLM is proposing to reinstate the lease effective August 1, 2009, under the original terms and conditions of the lease and the increased rental and royalty rates cited above.

Steven Wells,
Deputy State Director, Division of Natural Resources.

[FR Doc. 2010-18213 Filed 7-23-10; 8:45 am]

BILLING CODE 4310-GJ-P